DEPARTMENT OF COMMERCE

National Oceanic and Atmospheric Administration

50 CFR Part 300

[Docket No. 250327-0056]

RIN 0648-BN41

Pacific Halibut Fisheries of the West Coast; 2025 Catch Sharing Plan and Recreational Fishery Management Measures

AGENCY: National Marine Fisheries Service (NMFS), National Oceanic and Atmospheric Administration (NOAA), Commerce.

ACTION: Final rule.

SUMMARY: This final rule approves changes to the Pacific Halibut Catch Sharing Plan (CSP) for the International Pacific Halibut Commission's (IPHC) regulatory Area 2A off Washington, Oregon, and California. In addition, the rule implements new management measures for the 2025 recreational fisheries in Area 2A, including the recreational fishery season open dates and subarea allocations for Area 2A. This action also adds a new inseason management provision that explicitly allows for the inseason transfer of anticipated uncaught recreational fishery allocation from the Northern California subarea to the South of Point Arena subarea. These actions are intended to conserve Pacific halibut, while providing additional angler opportunity to achieve the Area 2A allocation set by the IPHC.

DATES: This rule is effective April 3, 2025.

ADDRESSES: This rule is accessible via the Office of the Federal Register website at https://www.federalregister.gov/. Background information is available at the NMFS West Coast Region website at https://www.fisheries.noaa.gov/region/west-coast and the Catch Sharing Plan and other related documents at the Pacific Fishery Management Council's (Council) website at https://www.pcouncil.org.

FOR FURTHER INFORMATION CONTACT: Melissa Mandrup, phone: 562-980-3231 or email: melissa.mandrup@noaa.gov.

SUPPLEMENTARY INFORMATION:

Background

The Northern Pacific Halibut Act of 1982 (Halibut Act), 16 U.S.C. 773-773k, gives the Secretary of Commerce responsibility for implementing the provisions of the Convention between Canada and the United States for the Preservation of the Halibut Fishery of the North Pacific Ocean and Bering Sea (Halibut Convention, signed at Ottawa, Ontario, on March 2, 1953), as amended by a Protocol Amending the Convention, (signed at Washington, DC, on March 29, 1979), including adopting regulations to carry it out (16 U.S.C. 773c). Additionally, the Halibut Act gives relevant regional fishery management councils the authority to develop regulations governing Pacific halibut fishing in U.S. waters that are in addition to, and not in conflict with, approved IPHC regulations, which “shall only be implemented with the approval of the Secretary.” (Id. 773c(c)). The statute also provides that the Secretary of State, with the concurrence of the Secretary of Commerce, may accept or reject, on behalf of the United States, regulations recommended by the IPHC in accordance with the Convention. (Id. 773b). The annual management measures are then published in the Federal Register (50 CFR 300.62).

At its annual meeting held January 27-31, 2025, the IPHC adopted an Area 2A catch limit, also known as the fishery constant exploitation yield (FCEY), of 1.53 million pounds (lb) or 694.0 metric tons (mt) of Pacific halibut. The FCEY was derived from the total constant exploitation yield (TCEY) of 1.65 million lb (748.4 mt) for Area 2A, which includes commercial discards and bycatch estimates calculated using a formula developed by the IPHC. The Area 2A TECY, FCEY and commercial and recreational fishery allocations (in net weight ¹) were adopted by the IPHC and were accepted by the Secretary of State, with concurrence from the Secretary of Commerce on March 14, 2025. This final rule implements the 2025 recreational fishery subarea allocations (e.g., Washington North Coast subarea, Oregon Central Coast subarea, Northern California Coast subarea) for Area 2A based on the 2025 Area 2A FCEY, which was adopted by the IPHC and published in the Federal Register on March 21, 2025 (90 FR 13293). Additionally, the March 21, 2025, final rule (90 FR 13293) contains annual domestic management measures (e.g., logbook requirements) and IPHC regulations that are published each year under NMFS's authority to implement the Halibut Convention (50 CFR 300.62).

¹ “Net weight” of a Pacific halibut means “the weight of Pacific halibut that is without gills and entrails, head-off, washed, and without ice and slime. If a Pacific halibut is weighed with the head on or with ice and slime, the required conversion factors for calculating net weight are a 2 percent deduction for ice and slime and a 10 percent deduction for the head” (https://www.iphc.int/uploads/2025/02/IPHC-Fishery-Regulations-2025-5-Feb-2025.pdf).

Since 1988, the CSP has allocated the IPHC regulatory Area 2A Pacific halibut FCEY between treaty Tribal and non-Tribal harvesters and among non-Tribal commercial and recreational (sport) fisheries. At 50 CFR 300.63 et seq., NMFS has implemented certain provisions of the CSP. NMFS also issues rules containing annual management measures consistent with the CSP. In 1995, a long-term Area 2A CSP took effect (60 FR 14651, March 20, 1995). NMFS has been promulgating adjustments to the Area 2A CSP, based on Council recommendations, each year, to address the changing needs of these fisheries. While the full CSP is not published in the Federal Register, it is made available on the Council website: https://www.pcouncil.org/managed_fishery/pacific-halibut/.

This rule finalizes changes to the 2025 Area 2A CSP, which were developed through the Council's public process over multiple meetings. The changes to the CSP were detailed in the proposed rule and are not repeated here (89 FR 104959, 104960-104961 (December 26, 2024)).

This rule also implements the 2025 recreational Pacific halibut fishery management measures, which include season opening and closing dates, bag limits, and a new inseason provision for the California recreational subareas that allows for the transfer of any projected unused Northern California subarea allocation to the South of Point Arena subarea, prior to or by the end of the Northern California fishing season (November 15).

These management measures are consistent with the recommendations made by the Council for the 2025 CSP and the season dates recommended by the Oregon Department of Fish and Wildlife (ODFW) during the proposed rule's public comment period.

2025 Annual Recreational Management Measures

This rule finalizes recreational fishery management measures consistent with the revisions to the 2025 CSP. If there is any discrepancy between the CSP and regulations, the regulations take precedence. These provisions may be modified through inseason action consistent with 50 CFR 300.63(c). All recreational fishing in Area 2A is managed on a “port of landing” basis, whereby any halibut landed into a port counts toward the allocation for the area in which that port is located, and the regulations governing the area of landing apply, regardless of the specific area of catch. The 2025 recreational fishing subareas, allocations (in net weight), fishing dates, and daily bag limits are described below.

Washington Puget Sound and the U.S. Convention Waters in the Strait of Juan de Fuca

The Pacific halibut recreational fishing allocation for landings into ports in Puget Sound and the U.S. waters in the Strait of Juan de Fuca subarea is 79,772 lb (36.2 mt).

(a) The Puget Sound subarea is open 7 days a week from April 3 through June 30. If the subarea allocation remains for at least another full day of fishing after June 30, NMFS may take inseason action to reopen the fishery in August, up to 7 days per week, through September. The subarea will close when there is not sufficient subarea allocation for another full day of fishing. If the Puget Sound subarea season is closed prior to September 30 and there is insufficient allocation for an additional fishing day, then any remaining Puget Sound subarea allocation may be transferred inseason to another Washington coastal subarea by NMFS. Any inseason action, including closures and intrastate subarea allocation transfers, will be published in the Federal Register in accordance with 50 CFR 300.63(c)(6)(iii) and provided/announced on the NMFS hotline at (206 526-6667 or (800) 662-9825.

(b) The daily bag limit is one Pacific halibut of any size per person.

Washington North Coast Subarea

The allocation for landings into ports in the Washington North Coast subarea is 130,409 lb (59.2 mt).

(a) The Washington North Coast fishery is open:

• May 1, 2, 3, 8, 9, 10, 15, 16, 17 (Thursday, Friday, Saturday);

• May 23, 24, 25 (Friday, Saturday, Sunday—Memorial Day weekend);

• May 29, 30, 31 (Thursday, Friday, Saturday); and

• June 1, 5, 6, 7, 8, 12, 13, 14, 15, 19, 20, 21, 22, 26, 27, 28, 29 (Thursday, Friday, Saturday, Sunday).

If the subarea allocation remains for at least another full day of fishing after June 30, NMFS may take inseason action to reopen the fishery in August, up to 7 days per week, through September. The area will be closed when there is not sufficient subarea allocation for another full day of fishing. If the fishery is closed prior to September 30 and there is insufficient allocation remaining to reopen for another fishing day, then any remaining allocation may be transferred inseason to another Washington coastal subarea by NMFS. Any inseason action, including closures and intrastate subarea allocation transfers, will be published in the Federal Register in accordance with 50 CFR 300.63(c)(6)(iii) and provided/announced on the NMFS hotline at (206) 526-6667 or (800) 662-9825; and

(b) The daily bag limit is one Pacific halibut of any size per person.

Washington South Coast Subarea

The Pacific halibut recreational fishing allocation for landings into ports in the Washington South Coast subarea is 65,117 lb (29.5 mt).

(a) The Washington South Coast primary fishery is open:

• May 1, 4, 6, 8, 11, 13, 15, 18, 20, 22, 25, 27, 29 (Thursday, Sunday, Tuesday); and

• June 12, 15, 17, 19, 22, 24, 26, 29 (Thursday, Sunday, Tuesday).

The fishery will close when there is not sufficient subarea allocation for another full day of fishing. If the subarea allocation remains for at least another full day of fishing after June 30, NMFS may take inseason action to reopen the fishery in August, up to 7 days per week, through September. The area will be closed when there is not sufficient subarea allocation for another full day of fishing. Any inseason action, including closures, will be published in the Federal Register in accordance with 50 CFR 300.63(c)(6)(iii) and provided/announced on the NMFS hotline at (206) 526-6667 or (800) 662-9825.

When the South Coast subarea primary fishery does not have sufficient allocation to open for at least another full day of fishing, any remaining primary fishery allocation will be used to open a nearshore fishery. The nearshore fishery will open the first Saturday after the closure of the primary fishery and will be open seven days per week until there is not sufficient nearshore fishery allocation remaining for another full day of fishing, at which point the area will be closed.

If the primary fishery is closed prior to September 30 and there is not sufficient allocation remaining for at least a full day of fishing in the nearshore fishery, NMFS may take inseason action to transfer any remaining subarea allocation to another Washington coastal subarea.

Any inseason action, including closures and intrastate subarea allocation transfers, will be published in the Federal Register in accordance with 50 CFR 300.63(c)(6)(iii) and provided/announced on the NMFS hotline at (206) 526-6667 or (800) 662-9825; and

(b) The daily bag limit is one Pacific halibut of any size per person.

Columbia River Subarea

The Pacific halibut recreational fishing allocation for landings into ports in the Columbia River subarea is 19,087 lb (8.7 mt), with 18,587 lb (8.4 mt) allocated to the all-depth fishery and 500 lb (0.2 mt) allocated to the nearshore fishery.

(a) The all-depth fishery is open:

• May 1, 2, 4, 8, 9, 11, 15, 16, 18, 22, 23, 25, 29, 30 (Thursday, Friday, Sunday); and

• June 1, 5, 6, 8, 12, 13, 15, 19, 20, 22, 26, 27, 29 (Thursday, Friday, Sunday).

If at least 55 percent of the Columbia River subarea allocation remains as of May 25, 2025, then NMFS may take inseason action to allow the all-depth fishery to open the following additional days:

• June 9, 10, 16, 17, 30 (Monday and Tuesday).

If the all-depth fishery allocation remains for at least another full day of fishing after June 30, NMFS may take inseason action to reopen the fishery in August, up to 7 days per week, through September. The area will be closed when there is not sufficient subarea allocation for another full day of fishing.

The nearshore fishery will be open Monday through Wednesday, following the opening of the all-depth fishery, until the nearshore allocation is taken or September 30, whichever is earlier. On days when the all-depth halibut fishery is closed, taking, retaining, possessing, or landing halibut on groundfish trips is only allowed in the nearshore area.

Once the Columbia River subarea is closed, any remaining Columbia River subarea allocation may be transferred inseason to other Washington or Oregon subareas by NMFS, in proportion to the allocation formula in the CSP, in accordance with Federal regulations at 50 CFR 300.63(c). Any inseason action, including closures and subarea allocation transfers, will be published in the Federal Register in accordance with 50 CFR 300.63(c)(6)(iii) and provided/announced on the NMFS hotline at (206) 526-6667 or (800) 662-9825; and

(b) The daily bag limit is one Pacific halibut of any size per person.

Oregon Central Coast Subarea

The Pacific halibut recreational fishing allocation for landings into ports in the Oregon Central Coast subarea is 295,367 lb (134.0 mt). The nearshore fishery allocation is 10,000 lb (4.5 mt), the spring all-depth fishery allocation is 207,768 lb (94.2 mt), and the summer all-depth fishery allocation is 59,256 lb (26.9 mt).

(a) The nearshore fishery is open 7 days a week from May 1 through October 31. The area will close when there is not sufficient subarea allocation for another full day of fishing. Any inseason action, including closures, will be published in the Federal Register in accordance with 50 CFR 300.63(c)(6)(iii) and provided/announced on the NMFS hotline at (206) 526-6667 or (800) 662-9825.

The spring all-depth fishery is open 7 days per week from May 1 through July 31. The area will be closed when there is not sufficient subarea allocation for another full day of fishing. Any closures will be published in the Federal Register in accordance with 50 CFR 300.63(c)(6)(iii) and provided/announced on the NMFS hotline at (206) 526-6667 or (800) 662-9825.

The summer all-depth fishery is open 7 days a week from August 1 through October 31. The area will close when the remaining combined spring all-depth fishery and summer all-depth fishery allocations in the Oregon Central Coast subarea is not sufficient for another full day of fishing. Any inseason action, including closures, will be published in the Federal Register in accordance with 50 CFR 300.63(c)(6)(iii) and provided/announced on the NMFS hotline at (206) 526-6667 or (800) 662-9825; and

(b) The daily bag limit is two Pacific halibut of any size per person.

Southern Oregon Coast Subarea

The allocation for landings into ports in the Southern Oregon subarea is 8,000 lb (3.6 mt).

(a) The fishery is open 7 days a week from May 1 through October 31. The area will close when there is not sufficient subarea allocation for another full day of fishing. Any inseason action, including closures, will be published in the Federal Register in accordance with 50 CFR 300.63(c)(6)(iii) and provided/announced on the NMFS hotline at (206) 526-6667 or (800) 662-9825; and

(b) The daily bag limit is two Pacific halibut of any size per person.

Northern California Coast Subarea

The Pacific halibut recreational fishing allocation for landings into ports in the Northern California Coast subarea is 39,280 lb (17.8 mt).

(a) The fishery is open 7 days a week from May 1 through November 15. If the Northern California subarea is not projected to utilize its respective allocation, prior to or by the season ending date, NMFS may take inseason action to transfer any projected unused allocation to the South of Point Arena subarea. The area will close when there is not sufficient subarea allocation for another full day of fishing. Any inseason action, including closures, will be published in the Federal Register in accordance with 50 CFR 300.63(c)(6)(iii) and provided/announced on the NMFS hotline at (206) 526-6667 or (800) 662-9825; and

(b) The daily bag limit is one Pacific halibut of any size per person.

South of Point Arena Subarea

The Pacific halibut recreational fishing allocation for landings into ports in the South of Point Arena subarea is 500 lb (0.2 mt).

(a) The fishery is open 7 days a week from May 1 through December 31. The area will close when there is not sufficient subarea allocation for another full day of fishing. Any inseason action, including closures, will be published in the Federal Register in accordance with 50 CFR 300.63(c)(6)(iii) and provided/announced on the NMFS hotline at (206) 526-6667 or (800) 662-9825; and

(b) The daily bag limit is one Pacific halibut of any size per person.

Comments and Responses

NMFS published a proposed rule on December 26, 2024 (89 FR 104959) and requested public comments on the 2025 Area 2A CSP and the proposed 2025 annual management measures. NMFS received one responsive comment and that was from the ODFW.

Comment 1: ODFW submitted a comment recommending the 2025 Central Oregon Coast subarea's spring all-depth recreational fishery season dates and bag limits be those that were included in the proposed rule: May 1-July 31 and 2-fish bag limit. Similarly, ODFW recommended the bag limit for the Southern Oregon subarea to be the proposed 2-fish bag limit. ODFW's recommendations for season dates and bag limits are based on the feedback from a public meeting ODFW conducted following the IPHC annual meeting, as well as on past fishing effort and harvest rates, other fishing opportunities, potential for adverse weather impacts on fishing, and the risk of exceeding the combined spring and summer all-depth fishery allocations.

Response: NMFS appreciates ODFW's public outreach and its recommendations for proposed season dates and bag limits.

Classification

This final rule is consistent with section 773 of the Halibut Act, which gives relevant regional fishery management councils the authority to develop regulations governing Pacific halibut fishing in U.S. waters that are in addition to, and not in conflict with, approved IPHC regulations, and that “shall only be implemented with the approval of the Secretary.” (Id. 773c(c)).

This final rule has been determined to be not significant for purposes of Executive Order 12866. This final rule is being issued in compliance with E.O. 14192.

NMFS finds good cause to waive the 30-day delay in the date of effectiveness and make the 2025 Area 2A recreational fishery management measures (i.e., season dates and bag limits) in this rule effective in time for the start of the recreational Pacific halibut fisheries off the coasts of Washington, Oregon and California, on April 3, 2025, pursuant to 5 U.S.C. 553(d)(3). Delaying the effective date of the annual management measures would be contrary to the public interest. This rule implements 2025 Area 2A subarea allocations as published in the proposed rule (89 FR 104959; December 26, 2024) for the recreational Pacific halibut fishery, based on the formulas set in the CSP and using the 2025 Area 2A FCEY for Pacific halibut set by the IPHC and accepted by the Secretary of State, with concurrence from the Secretary of Commerce on March 14, 2025. The compressed timeline necessitated by the processes outlined in the Halibut Act makes it impossible for NMFS to delay the effective date and still allow for a timely start to the fishing season.

Moreover, a delayed effective date is not necessary to provide sufficient notice to the fishing community. The rule does not make changes that would require fishery participants to purchase new gear or make other time-consuming changes. The final rule is virtually unchanged from the proposed rule. NMFS received one comment from ODFW in response to the proposed rule; the comment expressed support for the proposed management measures and no changes were necessary to accommodate the comment.

In light of the compressed timeline necessitated by the Halibut Act processes and the similarity between the proposed and final rules, NMFS finds good cause to waive the 30-day delay in effective date pursuant to 5 U.S.C. 553(d)(3). This final rule also lifts restrictions on fishing, and thus a 30-day delay in effectiveness is not required pursuant to 5 U.S.C. 553(d)(1).

The Chief Counsel for Regulation of the Department of Commerce certified to the Chief Counsel for Advocacy of the Small Business Administration during the proposed rule stage that this action would not have a significant economic impact on a substantial number of small entities for purposes of the Regulatory Flexibility Act. The factual basis for the certification was published in the proposed rule and is not repeated here. No comments were received regarding this certification. As a result, a regulatory flexibility analysis was not required for this action and none was prepared.

This final rule contains no information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: March 27, 2025.
Samuel D. Rauch III,
Deputy Assistant Administrator for Regulatory Programs, National Marine Fisheries Service.

For the reasons set out in the preamble, NMFS proposes to amend 50 CFR part 300, subpart E, as follows:

PART 300—INTERNATIONAL FISHERIES REGULATIONS

Subpart E—Pacific Halibut Fisheries

1. The authority citation for part 300, subpart E, continues to read as follows:

Authority: 16 U.S.C. 773-773k.

2. In § 300.63, redesignate paragraphs (c)(6)(i)(E) and (F) as paragraphs (c)(6)(i)(F) and (G) and add new paragraph (c)(6)(i)(E), to read as follows:

§ 300.63 Catch sharing plan and domestic management measures in Area 2A.

* * * * *

(c) * * *

(6) * * *

(i) * * *

(E) If the Northern California recreational (sport) subarea is not projected to utilize its respective allocation prior to or by the season ending date, NMFS may take inseason action to transfer any projected unused allocation to the South of Point Arena subarea.

* * * * *

[FR Doc. 2025-05585 Filed 4-1-25; 8:45 am]

BILLING CODE 3510-22-P